INTERNATIONAL TRADE COMMISSION

[Investigation No. 332-524]

Brazil: Competitive Factors in Brazil Affecting U.S. and Brazilian Agricultural Sales in Selected Third Country Markets; Institution of Investigation and Scheduling of Hearing

AGENCY: United States International Trade Commission.

ACTION: Notice.

SUMMARY: Following receipt on April 26, 2011, of a request from the United States Senate Committee on Finance (Committee) under section 332(g) of the Tariff Act of 1930 (19 U.S.C. 1332(g)), the U.S. International Trade Commission (Commission) instituted investigation No. 332-524, Brazil: Competitive Factors in Brazil Affecting U.S. and Brazilian Agricultural Sales in Selected Third Country Markets.

DATES:

June 24, 2011: Deadline for filing requests to appear at the public hearing.

July 5, 2011: Deadline for filing prehearing briefs and statements.

July 20, 2011: Public hearing.

July 27, 2011: Deadline for filing posthearing briefs and statements.

October 6, 2011: Deadline for filing all other written submissions.

March 26, 2012: Transmittal of Commission report to the Committee.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leader John Fry (202-708-4157 or john.fry@usitc.gov) or deputy project leader Brendan Lynch (202-205-3313 or brendan.lynch@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and prepare a report on the competitive factors in Brazil affecting U.S. and Brazilian agricultural sales in third country markets. As requested, to the extent possible, the report will include—

1. An overview of agricultural markets in Brazil, including recent trends in production, consumption, and trade;

2. An overview of U.S. and Brazilian participation in global export markets for meat, grain, and oilseed products, particularly in the European Union, Russia, China, Japan, and markets with which Brazil has negotiated trade agreements;

3. A description of the competitive factors affecting the agricultural sector in Brazil, in such areas as costs of production, transportation and marketing infrastructure, technology, exchange rates, domestic support, and government programs related to agricultural markets;

4. A description of the growth of Brazilian multinational agribusiness firms and their effect on global food supply chains;

5. A description of the principal trade measures affecting U.S. and Brazilian exports of meat, grain, and oilseed products in major third country export markets, including sanitary and phytosanitary measures and technical barriers to trade; and

6. A quantitative analysis of the economic effects of preferential tariffs negotiated under Brazil's free trade agreements on U.S. and Brazilian exports of meat, grain, and oilseed products, as well as the economic effects of selected non-tariff measures on U.S. and Brazilian exports of meat, grain, and oilseed products in major third country export markets.

The Committee asked that the Commission's report cover the period 2006-2010, and focus on the global meat, grains, and oilseeds markets. The Committee requested that the Commission deliver its report by March 26, 2012.

Public Hearing: The Commission will hold a public hearing in connection with this investigation at the U.S. International Trade Commission Building, 500 E Street, SW., Washington, DC, beginning at 9:30 a.m. on Wednesday, July 20, 2011. Requests to appear at the public hearing should be filed with the Secretary no later than 5:15 p.m., June 24, 2011, in accordance with the requirements in the “Submissions” section below. All prehearing briefs and statements should be filed with the Secretary not later than 5:15 p.m., July 5, 2011; and all posthearing briefs and statements responding to matters raised at the hearing should be filed with the Secretary not later than 5:15 p.m., July 27, 2011. All hearing-related briefs and statements should be filed in accordance with the requirements for filing written submissions set out below. In the event that, as of the close of business on June 24, 2011, no witnesses are scheduled to appear at the hearing, the hearing will be canceled. Any person interested in attending the hearing as an observer or nonparticipant may call the Office of the Secretary (202-205-2000) after June 24, 2011, for information concerning whether the hearing will be held.

Written Submissions: In lieu of or in addition to participating in the hearing, interested parties are invited to file written submissions concerning this investigation. All written submissions should be addressed to the Secretary, and all such submissions (other than pre- and post-hearing briefs and statements) should be received not later than 5:15 p.m., October 6, 2011. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In its request letter, the Committee stated that it intends to make the Commission's report available to the public in its entirety, and asked that the Commission not include any confidential business information in the report it sends to the Committee. Any confidential business information received by the Commission in this investigation and used in preparing this report will not be published in a manner that would reveal the operations of the firm supplying the information.

By order of the Commission.
Issued: May 18, 2011.
James R. Holbein,
Secretary to the Commission.

[FR Doc. 2011-12672 Filed 5-23-11; 8:45 am]

BILLING CODE 7020-02-P